DEPARTMENT OF HEALTH AND HUMAN SERVICES

Centers for Disease Control and Prevention

[Docket No. CDC-2019-0029; NIOSH-327]

Mesothelioma Registry Feasibility; Request for Information; Extension of Comment Period

AGENCY: Centers for Disease Control and Prevention, HHS.

ACTION: Extension of comment period.

SUMMARY: On April 8, 2019, the National Institute for Occupational Safety and Health (NIOSH), within the Centers for Disease Control and Prevention (CDC), opened a docket to obtain information on the feasibility of a registry designed to track mesothelioma cases in the United States, as well as recommendations on enrollment, data collection, confidentiality, and registry maintenance. The purpose of such a registry would be to collect information that could be used to develop and improve standards of care and to identify gaps in mesothelioma prevention and treatment. Comments were to be received by July 8, 2019. NIOSH is extending the comment period to close on August 7, 2019, to allow stakeholders and other interested parties sufficient time to respond.

DATES: The comment period for the document published on April 8, 2019 (84 FR 13928), is extended. Comments must be received by August 7, 2019.

ADDRESSES: Comments may be submitted electronically, through the Federal eRulemaking Portal: http://www.regulations.gov, or by sending a hard copy to the NIOSH Docket Office, Robert A. Taft Laboratories, MS-C34, 1090 Tusculum Avenue, Cincinnati, OH 45226. All written submissions received must include the agency name (Centers for Disease Control and Prevention, HHS) and docket number (CDC-2019-0029; NIOSH-327) for this action. All relevant comments, including any personal information provided, will be posted without change to http://www.regulations.gov.

FOR FURTHER INFORMATION CONTACT: Rachel Weiss, Program Analyst, 1090 Tusculum Avenue, MS: C-48, Cincinnati, OH 45226; telephone (855) 818-1629 (this is a toll-free number); email NIOSHregs@cdc.gov.

SUPPLEMENTARY INFORMATION: NIOSH published a request for information in the Federal Register on April 8, 2019 (84 FR 13928), regarding the feasibility of a national mesothelioma registry. On June 28, 2019, NIOSH received a request to allow additional time for public comments. This notice announces the extension of the comment period until August 7, 2019.

John J. Howard,
Director, National Institute for Occupational Safety and Health, Centers for Disease Control and Prevention, Department of Health and Human Services.

[FR Doc. 2019-14639 Filed 7-5-19; 8:45 am]

BILLING CODE 4163-18-P